ENVIRONMENTAL PROTECTION AGENCY

[FRL-6713-6]

Adequacy Status of Motor Vehicle Budgets in Submitted State Implementation Plans for Transportation Conformity Purposes; Maryland; Revised Phase II Plan for the Philadelphia-Wilmington-Trenton Ozone Nonattainment Area (Cecil County)

AGENCY: Environmental Protection Agency (EPA).

ACTION: Notice of adequacy status.

SUMMARY: EPA is announcing that the revised motor vehicle emissions budgets (budgets) contained in the revised Phase II Plan for the Philadelphia-Wilmington-Trenton Ozone Nonattainment Area submitted by the Maryland Department of the Environment (MDE) as State Implementation Plan (SIP) revisions are adequate for transportation conformity purposes. The revised Phase II Plan was submitted to EPA on December 21, 1999. Maryland's revised Phase II Plan consists of the 2005 attainment demonstration for the Philadelphia-Wilmington-Trenton nonattainment area and the 2002 and 2005 Post 99 Rate-of-Progress (ROP) plans for the Maryland portion of the Philadelphia-Wilmington-Trenton Nonattainment Area, Cecil County. EPA has found the budgets in Maryland's revised Phase II Plan for the Philadelphia-Wilmington-Trenton nonattainment area adequate for transportation conformity purposes.

DATES: The findings that the budgets are adequate were made in a letter dated May 31, 2000 from EPA Region III to the Maryland Department of the Environment. These adequacy findings are effective on June 23, 2000.

FOR FURTHER INFORMATION CONTACT: Paul T. Wentworth, P.E., U.S. EPA, Region III, 1650 Arch Street, Philadelphia, PA 19103 at (215) 814-2183 or by e-mail at: wentworth.paul@epa.gov.

SUPPLEMENTARY INFORMATION: Throughout this document “we,” “us,” or “our” refer to EPA. The word “budgets” refers to the motor vehicle emission budgets for volatile organic compounds (VOCs) and nitrogen oxides (NOX). The word “SIP” in this document refers to the revised Phase II Plan for the Philadelphia-Wilmington-Trenton nonattainment area submitted on December 21, 1999. The revised Phase II Plan includes the 2005 attainment demonstration for the one-hour National Ambient Air Quality Standard (NAAQS) for ozone for the Philadelphia-Wilmington-Trenton nonattainment area and the Post 99 ROP plans (2002 and 2005) for the Maryland portion of the Philadelphia-Wilmington-Trenton nonattainment area, Cecil County.

On March 2, 1999, the D.C. Circuit Court ruled that budgets contained in submitted SIPs cannot be used for conformity determinations until EPA has affirmatively found them adequate. By a transmittal letter dated December 21, 1999, the Maryland Department of the Environment formally submitted revisions to the Phase II Plan for the Philadelphia-Wilmington-Trenton Ozone Nonattainment Area. On March 2, 2000, we posted the availability of the Revised Phase II Plan and the budgets on our conformity website for the purpose of soliciting public comment on the adequacy of the budgets. The comment period closed on April 3, 2000.

On May 31, 2000, EPA Region III sent a letter to the Maryland Department of the Environment which constitute final Agency actions on the adequacy of the budgets contained in the revised Phase II SIP. Those actions were EPA's findings that the budgets of the revised Phase II plan submitted by MDE for the Philadelphia-Wilmington-Trenton area are adequate for transportation conformity purposes. As a result of our May 31, 2000 findings, the attainment budgets and the ROP budgets contained in Maryland's December 21, 1999 revised Phase II SIP for the Philadelphia-Wilmington-Trenton nonattainment area may be used for future conformity determinations.

This is an announcement of adequacy findings that we have already made on May 31, 2000. The effective date of these findings is June 23, 2000. These findings will also be announced on EPA's website: http://www.epa.gov/oms/traq (once there, click on the “Conformity” button, then look for “Adequacy Review of Submissions for Conformity”). The website will contain a detailed analysis of our adequacy findings and our responses to the public comments.

Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the NAAQS. The criteria by which we determine whether a SIP's budgets are adequate for conformity purposes are outlined in 40 CFR 93.118(e)(4).

Please note that an adequacy finding for budgets contained in a SIP is separate from EPA's completeness determination of the SIP submission, and separate from EPA's action to approve or disapprove the SIP. Even if we find budgets adequate, the SIP could later be disapproved. We describe our process for determining the adequacy of submitted SIP budgets in guidance memorandum dated May 14, 1999 and titled “Conformity Guidance on Implementation of March 2, 1999 Conformity Court Decision”. We followed this guidance in making these adequacy findings of the budgets in Maryland's revised Phase II plan. You may obtain a copy of this guidance from EPA's conformity web site: http://www.epa.gov/oms/traq (once there, click on the “Conformity” button) or by calling the contact name listed in FOR FURTHER INFORMATION CONTACT section of this notice.

Authority: 42 U.S.C. 7401-7671q.

Dated: June 1, 2000.
Bradley M. Campbell,
Regional Administrator, Region III.

[FR Doc. 00-14601 Filed 6-7-00; 8:45 am]

BILLING CODE 6560-50-P